DEPARTMENT OF ENERGY

10 CFR Part 430

[EERE-2019-BT-STD-0036]

RIN 1904-AE82

Energy Conservation Program: Energy Conservation Standards for Consumer Boilers

AGENCY: Office of Energy Efficiency and Renewable Energy, Department of Energy.

ACTION: Notification of public meeting and webinar.

SUMMARY: The Energy Policy and Conservation Act, as amended (EPCA), prescribes energy conservation standards for various consumer products and certain commercial and industrial equipment, including consumer boilers. DOE previously proposed amended energy conservation standards for consumer boilers in a notice of proposed rulemaking (NOPR) published in the Federal Register on August 14, 2023, which also announced a public meeting via webinar to receive input on these proposed standards and associated analyses and results. On August 15, 2023, DOE received a letter from the Air-Conditioning, Heating & Refrigeration Institute (AHRI) asking the Department to extend the NOPR comment period by 30 days and also to hold an in-person public meeting regarding the NOPR. In this document, DOE grants AHRI's request for an in-person meeting and announces that the public meeting will now be held in person, in addition to being broadcast as a webinar. DOE is denying AHRI's request for a comment period extension for the reasons explained in this document.

DATES: Meeting: DOE will hold a public meeting on Tuesday, September 12, 2023 from 10 a.m. to 3 p.m., in Arlington, VA. This meeting will also be broadcast as a webinar.

ADDRESSES: The public meeting will be held at 1000 Wilson Boulevard, Suite 1400, Arlington, VA 22209. See the SUPPLEMENTARY INFORMATION (Public Participation) section for further details, including procedures for attending the in-person meeting, webinar registration information, participant instructions, and information about the capabilities available to webinar participants.

FOR FURTHER INFORMATION CONTACT:

Ms. Julia Hegarty, U.S. Department of Energy, Office of Energy Efficiency and Renewable Energy, Building Technologies Office, EE-5B, 1000 Independence Avenue SW, Washington, DC 20585-0121. Telephone: (240) 597-6737. Email: ApplianceStandardsQuestions@ee.doe.gov.

Mr. Eric Stas, U.S. Department of Energy, Office of the General Counsel, GC-33, 1000 Independence Avenue SW, Washington, DC 20585-0121. Telephone: (202) 586-5827. Email: Eric.Stas@hq.doe.gov.

For further information on how to participate in the public meeting, contact the Appliance and Equipment Standards Program staff at (202) 287-1445 or by email: ApplianceStandardsQuestions@ee.doe.gov.

SUPPLEMENTARY INFORMATION: On August 14, 2023, DOE published a NOPR in the Federal Register titled “Energy Conservation Standards for Consumer Boilers,” which seeks to determine whether more-stringent standards would be technologically feasible and economically justified and would result in significant energy savings. 88 FR 55128. That document, which proposes amended energy conservation standards for consumer boilers, provides a 60-day public comment period ending on October 13, 2023. The NOPR also scheduled a public meeting webinar to discuss the consumer boilers NOPR and to receive input on these proposed standards and associated analyses and results from 1 p.m. to 4 p.m. on Tuesday, September 12, 2023.

On August 15, 2023, DOE received a letter ¹ from AHRI asking the Department to extend the Consumer Boilers energy conservation standards NOPR comment period by 30 days and also to hold an in-person public meeting regarding the NOPR. AHRI stated that their members need additional time to consider and collect data on this topic.

¹ See Docket No. EERE-2019-BT-STD-0036, which is available at www.regulations.gov.

After carefully considering AHRI's requests, the Department has decided to grant the request for an in-person public meeting at the date and time previously scheduled in the August 14, 2023 Consumer Boilers NOPR. Consequently, DOE will be hosting an in-person public meeting in addition to the webinar. Please note that attendance will be limited for the in-person public meeting do to room size capacity limits.

DOE has decided to deny AHRI's request for a comment period extension. The Department continues to believe that the comment period length is appropriate and provides a meaningful opportunity for interested parties to comment on the NOPR. It is noted that DOE also posted a pre-publication copy of the NOPR on the DOE website and notified stakeholder organizations of its availability via email on July 28, 2023, which provided many stakeholders with another 17 days of review in addition to the 60-day comment period.

Public Participation

Participation in the Public Meeting and Webinar

The time, date and location of the public meeting are listed in the DATES and ADDRESSES sections of this document. If you plan to attend the public meeting, you must notify the Appliance and Equipment Standards Program staff no later than September 8, 2023, either by phone at (202) 287-1445 or by email: ApplianceStandardsQuestions@ee.doe.gov. Please note advance registration is required and capacity in the meeting room will be limited.

Please note that foreign nationals participating in the public meeting are subject to advance security screening procedures which require advance notice prior to attendance at the public meeting. If a foreign national wishes to participate in the public meeting, please inform DOE as soon as possible by contacting Ms. Regina Washington at (202) 586-1214 or by email: Regina.Washington@ee.doe.gov so that the necessary procedures can be completed.

DOE requires visitors to have laptops and other devices, such as tablets, checked upon entry into the building. Any person wishing to bring these devices into the Forrestal Building will be required to obtain a property pass. Visitors should avoid bringing these devices, or allow an extra 45 minutes to check in. Please report to the visitor's desk to have devices checked before proceeding through security.

Due to the REAL ID Act implemented by the Department of Homeland Security (DHS), there have been recent changes regarding ID requirements for individuals wishing to enter Federal buildings from specific States and U.S. territories. DHS maintains an updated website identifying the State and territory driver's licenses that currently are acceptable for entry into DOE facilities at www.dhs.gov/real-id-enforcement-brief. A driver's license from a State or territory identified as not compliant by DHS will not be accepted for building entry and one of the alternate forms of ID listed below will be required. Acceptable alternate forms of Photo-ID include U.S. Passport or Passport Card; an Enhanced Driver's License or Enhanced ID-Card issued by States and territories as identified on the DHS website (Enhanced licenses issued by these States and territories are clearly marked Enhanced or Enhanced Driver's License); a military ID or other Federal government-issued Photo-ID card.

In addition, you can attend the public meeting via webinar. Webinar registration information, participant instructions, and information about the capabilities available to webinar participants will be published on DOE's website: www.energy.gov/eere/buildings/public-meetings-and-comment-deadlines. Participants are responsible for ensuring their systems are compatible with the webinar software.

Procedure for Submitting Prepared General Statements for Distribution

Any person who has plans to present a prepared general statement may request that copies of his or her statement be made available at the public meeting. Such persons may submit requests, along with an advance electronic copy of their statement in PDF (preferred), Microsoft Word or Excel, WordPerfect, or text (ASCII) file format, to the appropriate address shown in the ADDRESSES section at the beginning of this document. The request and advance copy of statements must be received at least one week before the public meeting and are to be emailed. Please include a telephone number to enable DOE staff to make follow-up contact, if needed.

Conduct of the Public Meeting

DOE will designate a DOE official to preside at the public meeting and may also use a professional facilitator to aid discussion. The meeting will not be a judicial or evidentiary-type public hearing, but DOE will conduct it in accordance with section 336 of EPCA (42 U.S.C. 6306). A court reporter will be present to record the proceedings and prepare a transcript. DOE reserves the right to schedule the order of presentations and to establish the procedures governing the conduct of the webinar/public meeting. There shall not be discussion of proprietary information, costs or prices, market share, or other commercial matters regulated by U.S. anti-trust laws. After the webinar and until the end of the comment period, interested parties may submit further comments on the proceedings and any aspect of the proposed rulemaking.

The webinar will be conducted in an informal, conference style. DOE will present a general overview of the topics addressed in this proposed rulemaking, allow time for prepared general statements by participants, and encourage all interested parties to share their views on issues affecting this proposed rulemaking. Each participant will be allowed to make a general statement (within time limits determined by DOE), before the discussion of specific topics. DOE will permit, as time permits, other participants to comment briefly on any general statements.

At the end of all prepared statements on a topic, DOE will permit participants to clarify their statements briefly. Participants should be prepared to answer questions by DOE and by other participants concerning these issues. DOE representatives may also ask questions of participants concerning other matters relevant to this proposed rulemaking. The official conducting the webinar will accept additional comments or questions from those attending, as time permits. The presiding official will announce any further procedural rules or modification of the above procedures that may be needed for the proper conduct of the public meeting.

A transcript of the public meeting will be included in the docket, which can be viewed as described in the Docket section at the beginning of the August 14, 2023 NOPR. In addition, any person may buy a copy of the transcript from the transcribing reporter.

Approval of the Office of the Secretary

The Secretary of Energy has approved publication of this notification of public meeting and webinar.

Signing Authority

This document of the Department of Energy was signed on August 28, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 28, 2023.
Treena V. Garrett,
Federal Register Liaison Officer, U.S. Department of Energy.

[FR Doc. 2023-18850 Filed 8-30-23; 8:45 am]

BILLING CODE 6450-01-P